DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Durbin & Greenbrier Valley Railroad

[Waiver Petition Docket Number FRA-2007-27868]

The Durbin & Greenbrier Valley Railroad, Inc. (DGVR), a Class III railroad, seeks a waiver of compliance from the requirements of CFR § 223.11 Requirements for existing locomotives for Locomotive Number 82. Specifically, DGVR petitioned FRA for a waiver for a 1,500 horsepower diesel electric locomotive, model BL-2, built by the Electro Motive Division of General Motors in 1948. This locomotive is on loan from the State of West Virginia (WV) Rail Authority. The locomotive is stored in Belington, WV, and operated by a subsidiary division of DGVR, the West Virginia Central.

Locomotive Number 82 is used on a limited basis for freight and excursion passenger service from a station in Hi Falls, WV (Milepost (MP) 51) to Tygart Junction, WV (MP 0.02), approximately 50 miles. There are 21 highway/rail crossings at grade, and two overpasses. One is located in Elkins, WV, and the other approximately 10 miles east of Elkins. The railroad operates through rural and relatively unpopulated areas, and there have been no reports of glazing vandalism along this right-of-way.

The petitioner believes that this locomotive can be safely operated throughout the rural area with the current non-compliant safety-type glazing. The cost to DGVR for installation of all new window frames and compliant FRA Types I & II glazing is significant, with only a marginal increase in safety due to the low speed.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2007-27868) and may be submitted by any of the following methods:

Web site: http://www.regulations.gov. Follow the online instructions for submitting comments.

Fax: 202-493-2251.

Mail: Docket Operations Facility, U.S. Department of Transportation, 1200 New Jersey Avenue, SE., W12-140, Washington, DC 20590.

Hand Delivery: 1200 New Jersey Avenue, SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on December 19, 2007.
Grady C. Cothen, Jr.,
Deputy Associate Administrator for Safety Standards and Program Development.

[FR Doc. E7-25069 Filed 12-27-07; 8:45 am]

BILLING CODE 4910-06-P